DEPARTMENT OF ENERGY

Federal Energy Regulatory Commission

[Docket No. CP04-60-000]

Tennessee Gas Pipeline Company; Notice of Request Under Blanket Authorization

February 9, 2004.

Take notice that on January 30, 2004, Tennessee Gas Pipeline Company (Tennessee), a Delaware corporation, located at 9 E. Greenway Plaza, Houston, Texas 77046, filed in Docket No. CP04-60-000 a request pursuant to §§ 157.205, 157.208 and 157.211 of the Federal Energy Regulatory Commission's (Commission) regulations under the Natural Gas Act (NGA), for authorization to construct a lateral pipeline and delivery point to facilitate gas transportation services to a new delivery point in Massachusetts (known as the Tewksbury-Andover Lateral), under Tennessee's blanket certificate issued in Docket No. CP82-413-000, all as more fully set forth in the application which is on file with the Commission and open to public inspection.

Tennessee states that it will construct 5.31 miles of eight-inch lateral pipeline from its Concord Lateral in Middlesex County eastward to a new delivery point in Essex County. Tennessee states that the Tewksbury-Andover Lateral is estimated to cost approximately $7,321,000, excluding allowance for funds used during construction. Tennessee further states that the lateral pipeline and delivery point are required to provide firm service of 17,000 Dth/day requested by Bay State Gas Company and an additional 8,000 Dth/day requested by Wyeth Pharmaceuticals, Inc.

Any questions concerning this request may be directed to Jacques A. Hodges, Attorney, Tennessee Gas Pipeline Company, 9 East Greenway Plaza, Houston, Texas 77046, at (832) 676-5509 or fax (832) 676-2251 or Cynthia Hornstein Roney, Certificates & Regulatory Compliance, at (832) 676-3535 or fax (832) 676-2231.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see, 18 CFR 385.2001(a)(1)(iii) and the instructions on the Commission's Web site under the “e-Filing” link. The Commission strongly encourages interveners to file electronically.

Any person or the Commission's staff may, within 45 days after issuance of the instant notice by the Commission, file pursuant to Rule 214 of the Commission's Procedural Rules (18 CFR 385.214) a motion to intervene or notice of intervention and pursuant to § 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: March 26, 2004.

Magalie R. Salas,
Secretary.

[FR Doc. E4-288 Filed 2-13-04; 8:45 am]

BILLING CODE 6717-01-P